ENVIRONMENTAL PROTECTION AGENCY

[FRL-6575-4]

Meeting of the Local Government Advisory Committee and Small Community Advisory Subcommittee

AGENCY: Environmental Protection Agency (EPA).

ACTION: Notice.

SUMMARY: The Local Government Advisory Committee and its Small Community Advisory Subcommittee will meet on April 26, 2000, from 12 noon—2 p.m. EDT in Washington, DC. The meeting will be held in Room 3528 in the Ariel Rios North Building and Committee members will participate via conference call. The Committee will consider adopting recommendations to the Agency regarding its draft implementation guidance for Executive Order 13132, entitled “Federalism.”

The Committee will hear comments from the public between 12:30-12:45 p.m. on the 26th. Each individual or organization wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. Members of the public are requested to call the DFO at the number listed below if planning to attend so that arrangements can be made to comfortably accommodate attendees as much as possible. However, seating will be on a first come, first serve basis.

DATES: The meeting will begin at 12 p.m. on Wednesday, April 26, 2000, and conclude no later than 2 p.m. on the same day.

ADDRESSES: The meeting will be held in Washington, DC at EPA Headquarters in Room 3528 of the Ariel Rios North Building located at 1200 Pennsylvania Avenue, NW.

Requests for Minutes and other information can be obtained by writing to the DFO at 1200 Pennsylvania Avenue, NW (1306A), Washington, DC 20460.

FOR FURTHER INFORMATION CONTACT: The DFO for this Committee is Denise Zabinski Ney. She is the point of contact for information concerning any Committee matters and can be reached by calling (202) 564-3684 or by email at ney.denise@epa.gov.

Dated: March 3, 2000.
Denise Zabinski Ney,
Designated Federal Officer, Local Government Advisory Committee.

[FR Doc. 00-8834 Filed 4-7-00; 8:45 am]

BILLING CODE 6560-50-P